DEPARTMENT OF COMMERCE

International Trade Administration

[A-201-844]

Steel Concrete Reinforcing Bars (Rebar) From Mexico: Final Results of Expedited Sunset Review of Antidumping Duty Order

AGENCY: Enforcement and Compliance, International Trade Administration, Department of Commerce.

SUMMARY: As a result of this sunset review, the Department of Commerce (Commerce) finds that revocation of the antidumping duty (AD) order on steel concrete reinforcing bars (rebar) from Mexico would be likely to lead to continuation or recurrence of dumping at the levels indicated in the “Final Results of Sunset Review” section of this notice.

DATES: Applicable February 5, 2020.

FOR FURTHER INFORMATION CONTACT: Stephanie Moore, AD/CVD Operations, Office III, Enforcement and Compliance, International Trade Administration, U.S. Department of Commerce, 1401 Constitution Avenue NW, Washington, DC 20230; telephone: (202) 482- 3692.

SUPPLEMENTARY INFORMATION

Background

On October 1, 2019, Commerce published the notice of initiation of the sunset review of the AD Order ¹ on rebar from Mexico.² We received a notice of intent to participate in the review from the Rebar Trade Action Coalition (RTAC) and its individual members, Nucor Corporation, Gerdau Ameristeel US Inc., Commercial Metals Company, Steel Dynamics, Inc., and Byer Steel Group, Inc. (collectively, domestic interested parties).³ Commerce received complete substantive responses from the domestic interested parties within the 30-day deadline specified in 19 CFR 351.218(d)(3)(i).⁴ We received no substantive responses from any other interested parties, nor was a hearing requested. As a result, pursuant to section 751(c)(3)(B) of the Tariff Act of 1930, as amended (the Act), and 19 CFR 351.218(e)(1)(ii)(C)(2), Commerce has conducted an expedited (120-day) sunset review of the AD Order.⁵

¹ See Steel Concrete Reinforcing Bar from Mexico: Antidumping Duty Order, 79 FR 65925 (November 6, 2014) (AD Order).

² See Initiation of Five-Year (Sunset) Reviews, 84 FR 52067 (October 1, 2019).

³ See Domestic Interested Parties' Letter, “Steel Concrete Reinforcing Bars from Mexico: Notice of Intent to Participate in Sunset Review,” dated October 16, 2019.

⁴ See Domestic Interested Parties' Letter, “Steel Concrete Reinforcing Bars from Mexico: Substantive Response to Notice of Initiation,” dated October 30, 2019.

⁵ See Letter, “Sunset Review Initiated on October 1, 2019,” dated November 22, 2019.

Scope of the AD Order

The merchandise subject to this order is steel concrete reinforcing bar imported in either straight length or coil form (rebar) regardless of metallurgy, length, diameter, or grade. The subject merchandise is classifiable in the Harmonized Tariff Schedule of the United States (HTSUS) primarily under item numbers 7213.10.0000, 7214.20.0000, and 7228.30.8010. The subject merchandise may also enter under other HTSUS numbers including 7215.90.1000, 7215.90.5000, 7221.00.0015, 7221.00.0030, 7221.00.0045, 7222.11.0001, 7222.11.0057, 7222.11.0059, 7222.30.0001, 7227.20.0080, 7227.90.6085, 7228.20.1000, and 7228.60.6000. Specifically excluded are plain rounds (i.e., non-deformed or smooth rebar). Also excluded from the scope is deformed steel wire meeting ASTM A1064/A1064M with no bar markings (e.g., mill mark, size or grade) and without being subject to an elongation test. HTSUS numbers are provided for convenience and customs purposes; however, the written description of the scope remains dispositive.

Analysis of Comments Received

All issues raised in this review, including the likelihood of continuation or recurrence of dumping in the event of revocation and the magnitude of the margin likely to prevail if the AD Order was revoked, are addressed in the accompanying Issues and Decision Memorandum.⁶ The Issues and Decision Memorandum is a public document and is on file electronically via Enforcement and Compliance's Antidumping and Countervailing Duty Centralized Electronic Service System (ACCESS). ACCESS is available to registered users at https://access.trade.gov, and to all parties in the Central Records Unit, room B8024 of the main Commerce building. A list of the topics discussed in the Issues and Decision Memorandum is attached as an appendix to this notice. In addition, a complete version of the Issues and Decision Memorandum can be accessed directly at http://enforcement.trade.gov/frn/. The signed and electronic versions of the Issues and Decision Memorandum are identical in content.

⁶ See Memorandum, “Issues and Decision Memorandum for the Final Results of the First Expedited Sunset Review of the Antidumping Duty Order on Steel Concrete Reinforcing Bars from Mexico,” dated concurrently with, and hereby adopted by, this notice (Issues and Decision Memorandum.

Final Results of Sunset Review

Pursuant to sections 751(c)(1) and 752(c)(1) and (3) of the Act, we determine that revocation of the AD Order would be likely to lead to the continuation or recurrence of dumping, and that the magnitude of the dumping margin likely to prevail for Mexico would be a weighted-average dumping margin up to 66.70 percent.

Administrative Protective Order (APO)

This notice serves as the only reminder to parties subject to an APO of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

We are issuing and publishing the final results and notice in accordance with sections 751(c), 752(c), and 777(i)(1) of the Act and 19 CFR 351.218.

Dated: January 28, 2020.
Jeffrey I. Kessler,
Assistant Secretary for Enforcement and Compliance.

Appendix—List of Topics Discussed in the Issues and Decision Memorandum

I. Summary

II. Background

III. Scope of the AD Order

IV. History of the AD Order

V. Legal Framework

VI. Discussion of the Issues

1. Likelihood of the Continuation or Recurrence of Dumping

2. Magnitude of the Margin Likely to Prevail

VII. Final Results of Review

VIII. Recommendation

[FR Doc. 2020-02255 Filed 2-4-20; 8:45 am]

BILLING CODE 3510-DS-P